DEPARTMENT OF ENERGY

Federal Energy Regulatory Commission

[IC07-542-001, FERC 542]

Commission Information Collection Activities, Proposed Collection; Comment Request; Extension

September 14, 2007.

AGENCY: Federal Energy Regulatory Commission, DOE.

ACTION: Notice.

SUMMARY: In compliance with the requirements of section 3507 of the Paperwork Reduction Act of 1995, 44 U.S.C. 3507, the Federal Energy Regulatory Commission (Commission) has submitted the information collection described below to the Office of Management and Budget (OMB) for review and extension of this information collection requirement. Any interested person may file comments directly with OMB and should address a copy of those comments to the Commission as explained below. The Commission did not receive any comments in response to an earlier Federal Register notice of June 1, 2007 (72 FR 30574-30575) and has made this notification in its submission to OMB. Copies of the submission were also submitted to the commenters.

DATES: Comments on the collection of information are due by October 19, 2007.

ADDRESSES: Address comments on the collection of information to the Office of Management and Budget, Office of Information and Regulatory Affairs, Attention: Federal Energy Regulatory Commission Desk Officer. Comments to OMB should be filed electronically, c/o oira_submission@omb.eop.gov and include the OMB Control No. as a point of reference. The Desk Officer may be reached by telephone at 202-395-7345. A copy of the comments should also be sent to the Federal Energy Regulatory Commission, Office of the Executive Director, ED-34, Attention: Michael Miller, 888 First Street, NE., Washington, DC 20426. Comments may be filed either in paper format or electronically. Those persons filing electronically do not need to make a paper filing. For paper filings an original and 14 copies, of such comments should be submitted to the Secretary of the Commission, Federal Energy Regulatory Commission, 888 First Street, NE., Washington, DC 20426 and should refer to Docket No. IC07-542-001.

Documents filed electronically via the Internet must be prepared in WordPerfect, MS Word, Portable Document Format, or ASCII format. To file the document, access the Commission's Web site at http://www.ferc.gov and click on “Make an E-Filing,” and then follow the instructions for each screen. First time users will have to establish a user name and password. The Commission will send an automatic acknowledgement to the sender's e-mail address upon receipt of comments. User assistance for electronic filings is available at 202-502-8258 or by e-mail to efiling@ferc.gov. Comments should not be submitted to this e-mail address.

All comments may be viewed, printed or downloaded remotely via the Internet through FERC's homepage using the “eLibrary” link. Enter the docket number excluding the last three digits in the docket number field to access the document. For user assistance, contact FERCOnlineSupport@ferc.gov or toll-free at 1-866-208-3676 or 202-502-6652 (e-mail at FERCOnlineSupport@FERC.gov), or the Public Reference Room at 202-502-8371, TTY 202-502-8659 (e-mail at public.referenceroom@ferc.gov).

FOR FURTHER INFORMATION CONTACT: Michael Miller may be reached by telephone at (202) 502-8415, by fax at (202) 273-0873, and by e-mail at michael.miller@ferc.gov.

SUPPLEMENTARY INFORMATION:

Description

The information collection submitted for OMB review contains the following:

1. Collection of Information: FERC 542 “Gas Pipeline Rates: Rate Tracking”.

2. Sponsor: Federal Energy Regulatory Commission.

3. Control No.: 1902-0070.

The Commission is now requesting that OMB approve and extend the expiration date for an additional three years with no changes to the existing collection. The information filed with the Commission is mandatory.

4. Necessity of the Collection of Information: Submission of the information is necessary for the Commission to carry out its responsibilities in implementing the statutory provisions of the sections 4, 5 and 16 of the Natural Gas Act (NGA) (15 U.S.C. 717-717w). These statutes empower the Commission to collect natural gas transmission cost information from interstate natural gas transporters for the purpose of verifying that these costs, which are passed on to pipeline customers, are just and reasonable.

Interstate natural gas pipeline companies are required by the Commission to track their transportation associated costs to allow for the Commission's review and where appropriate, approval of the pass-through of these costs to pipeline customers. Most of these FERC-542 tracking filings are monthly accountings of the cost of fuel or electric power necessary to operate compressor stations. Others track the costs of (1) annual charges of various types and (2) other types of rate adjustments.

Tracking filings may be submitted at any time or on a regularly scheduled basis in accordance with the pipeline company's tariff. Filings may be either: (1) Accepted; (2) suspended and set for hearing; (3) suspended, but not set for hearing; or (4) suspended for further review, such as technical conference or another type of Commission action.

The Commission implements these filing requirements in the Code of Federal Regulations (CFR) under 18 CFR part 154, §§ 154.4, 154.7, 154.101, 154.201, 154.207-.209, 154.307 and 154.401-.403.

5. Respondent Description: The respondent universe currently comprises 95 companies (on average) subject to the Commission's jurisdiction.

6. Estimated Burden: 13,300 total hours, 95 respondents (average), 3.5 responses per respondent, and 40 hours per response (rounded off and average time).

7. Estimated Cost Burden to Respondents: 13,300 hours/2080 hours per year × $122,137 per year = $ 780,972. The cost per respondent is equal to $8,221.

Statutory Authority: Statutory provisions of sections 4, 5 and 16 of the Natural Gas Act (NGA) (15 U.S.C. 717-717w).

Kimberly D. Bose,
Secretary.

[FR Doc. E7-18671 Filed 9-20-07; 8:45 am]

BILLING CODE 6717-01-P